DEPARTMENT OF ENERGY

Federal Energy Regulatory Commission

[Docket No. EL02-111-000]

Midwest Independent System Operator, PJM Interconnection, L.L.C., et al.; Notice of Settlement Conference

August 22, 2002.

Pursuant to Rule 601 of the Commission's Rules of Practice and Procedure, 18 CFR 385.601, a settlement conference in the above docketed proceeding will be held on September 5, 2002, to address the issue of eliminating rate pancaking between the Midwest ISO and PJM, as discussed in the Commission's July 31, 2002 order, 100 FERC ¶ 61,137 (paragraphs 49-52, and ordering paragraphs D and E). The conference will begin at 10 a.m. in Room 3M-2A&B at the Commission headquarters, 888 1st St., NE., Washington, DC 20426.

Steven A. Rothman, with the Commission's Dispute Resolution Service, will mediate the conference. He will be available to communicate in private with any party prior to the conference. If a party has any questions regarding the conference, please call Steven Rothman at (202) 502-8643 or send an e-mail to Steven.Rothman@ferc.gov. Parties may also communicate with Richard Miles, the Director of the Commission's Dispute Resolution Service at 1 (877) FERC-ADR (337-2237) or (202) 502-8702 and his e-mail address is Richard.Miles@ferc.gov.

Linwood A. Watson, Jr.,
Deputy Secretary.

[FR Doc. 02-21900 Filed 8-27-02; 8:45 am]

BILLING CODE 6717-01-P